ENVIRONMENTAL PROTECTION AGENCY

[EPA-HQ-OPP-2005-0163; FRL-9348-2]

Aldicarb; Cancellation Order for Amendments To Terminate Uses

AGENCY: Environmental Protection Agency (EPA).

ACTION: Notice.

SUMMARY: This notice announces EPA's order for the amendment to terminate uses, voluntarily requested by the registrant and accepted by the Agency, of products containing aldicarb, pursuant to section 6(f)(1) of the Federal Insecticide, Fungicide, and Rodenticide Act (FIFRA), as amended. This cancellation order follows an October 7, 2010 Federal Register Notice of Receipt of Request from the registrant, Bayer CropScience to voluntarily amend to terminate uses of the product, TEMIK® Brand 15G, containing aldicarb on citrus and potatoes effective immediately. The registrant also requested that EPA amend to terminate the remaining pesticide uses of this product on cotton, dry beans, peanuts, soybeans, sugar beets, and sweet potatoes, effective as of December 31, 2014. These are not the last products containing aldicarb registered for use in the United States. In the October 7, 2010 notice, EPA indicated that it would issue an order implementing the amendments to terminate uses, unless the Agency received substantive comments within the 30-day comment period that would merit its further review of these requests, or unless the registrant withdrew their requests. The Agency received comments on the notice but none merited its further review of the requests. Further, the registrant did not withdraw their requests. Accordingly, EPA hereby issues in this notice a cancellation order granting the requested amendments to terminate uses. Any distribution, sale, or use of the products subject to this cancellation order is permitted only in accordance with the terms of this order, including any existing stocks provisions.

DATES: The amendments are effective May 9, 2012.

FOR FURTHER INFORMATION CONTACT: Susan Bartow, Pesticide Re-evaluation Division (7508P), Office of Pesticide Programs, Environmental Protection Agency, 1200 Pennsylvania Ave. NW., Washington, DC 20460-0001; telephone number: (703) 603-0065; fax number: (703) 308-8090; email address: bartow.susan@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2005-0163. Publicly available docket materials are available either in the electronic docket at http://www.regulations.gov, or, if only available in hard copy, by appointment at One Potomac Yard (South Bldg.), 2777 S. Crystal Dr., Arlington, VA, between 9 a.m. and 3 p.m., Monday through Friday, excluding legal holidays. To schedule an appointment, call (703) 305-5805.

II. What action is the agency taking?

This notice announces the amendments to delete uses, as requested by a registrant, of a product registered under section 3 of FIFRA. The registration is listed in Table 1 of this unit.

Table 1—Aldicarb Product Registration Amendments To Delete Uses
EPA Registration number | Product name | Uses deleted
264-333 | TEMIK® Brand 15G | Citrus, Potatoes, Cotton, Dry Beans, Peanuts, Soybeans, Sugar Beets, and Sweet Potatoes.

Table 2 of this unit includes the name and address of record, as well as the EPA company number for the registrant of the product in Table 1 of this unit. The EPA company number corresponds to the first part of the EPA registration number of the product listed above.

Table 2—Registrant of the Amended Product
EPA Company number | Company name and address
264 | Bayer CropScience, 2 T.W. Alexander Drive, P.O. Box 12014, Research Triangle Park, NC 27709.

III. Summary of Public Comments Received and Agency Response to Comments

The Agency received comments relating to alternatives and benefits of aldicarb use. The Agency does not believe that the comments submitted during the comment period merit further review or a denial of the requests for voluntary use deletion.

IV. Cancellation Order

Pursuant to FIFRA section 6(f), EPA hereby approves the requested amendments to terminate uses of the aldicarb registration identified in Table 1 of Unit II. Accordingly, the Agency hereby orders that the product registration identified in Table 1 of Unit II are amended to terminate the affected uses. The effective date of the citrus and potatoes cancellations that are the subject of this notice is May 9, 2012. The effective date of the cotton, dry bean, peanut, soybean, sugar beet, and sweet potato cancellations that are subject of this notice is December 31, 2014. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on October 7, 2010 (75 FR 62129) (FRL-8848-1). The comment period closed on November 8, 2010.

VI. Provisions for Disposition of Existing Stocks

Existing stocks are those stocks of registered pesticide products which are currently in the United States and which were packaged, labeled, and released for shipment prior to the effective date of the action. The existing stocks provision for the product subject to this order is as follows.

Per a Memorandum of Agreement (MOA) between the Environmental Protection Agency and Bayer CropScience dated August 16, 2010, Bayer may only sell existing stocks of any aldicarb end-use product labeled for use on citrus and potatoes for export consistent with the requirements of FIFRA section 17 or for purposes of proper disposal. Existing stocks of aldicarb end-use product (TEMIK® Brand 15G) that are labeled for use on citrus and potatoes may no longer be sold by retailers or used on citrus and potatoes as of May 9, 2012.

Bayer may only sell or distribute TEMIK® Brand 15G end-use products permitting use on cotton, dry beans, peanut, soybean, sugar beets, and sweet potatoes until December 31, 2014. After that date, Bayer may only distribute such products intended for export consistent with the requirements of FIFRA section 17 or for purposes of proper disposal.

Sale and distribution of TEMIK® Brand 15G labeled for use on cotton, dry beans, peanut, soybean, sugar beets, and sweet potatoes by any other party is permitted until December 31, 2016, and thereafter, only for purposes of proper disposal or export consistent with the requirements of FIFRA section 17.

Existing stocks of TEMIK® Brand 15G labeled for use on cotton, dry beans, peanut, soybean, sugar beets, and sweet potatoes may be used until August 31, 2018, provided that such use is in all respects consistent with the previously-approved label and labeling accompanying the product.

List of Subjects

Environmental protection, Pesticides and pests.

Dated: May 2, 2012.
Richard P. Keigwin, Jr.,
Director, Pesticide Re-evaluation Division, Office of Pesticide Programs.

[FR Doc. 2012-11072 Filed 5-8-12; 8:45 am]

BILLING CODE 6560-50-P